DEPARTMENT OF ENERGY

Office of Energy Efficiency and Renewable Energy

10 CFR Part 430

[Docket No. EE-RM/STD-98-440]

RIN: 1904-AA77

Energy Conservation Program for Consumer Products: Energy Conservation Standards for Central Air Conditioners and Central Air Conditioning Heat Pumps

AGENCY: Office of Energy Efficiency and Renewable Energy, Energy.

ACTION: Notice of Re-opening Public Comment Period.

SUMMARY: On November 24, 1999, the Department of Energy published a Supplemental Advance Notice of Proposed Rulemaking (ANOPR) to consider amending the energy conservation standards for central air conditioners and central air conditioning heat pumps. The comment period ended on February 7, 2000. In response to requests from the Air Conditioning and Refrigeration Institute (ARI) and the California Energy Commission (CEC) to extend the comment period, the Department is re-opening the comment period until February 28, 2000.

DATES: The Department will accept written comments, data, and information regarding the ANOPR until Monday, February 28, 2000. The Department requests 10 copies of the written comments and a computer diskette (WordPerfect 8).

ADDRESSES: Written comments should be submitted to: U.S. Department of Energy, Attn: Brenda Edwards-Jones, Office of Energy Efficiency and Renewable Energy, “Energy Efficiency Standards for Consumer Products, Central Air Conditioners and Central Air conditioning Heat Pumps” (Docket No. EE-RM/STD-98-440), EE-41, Forrestal Building, 1000 Independence Avenue, SW, Room 1J-018, Washington, DC 20585, (202) 586-2945.

You can read copies of the transcript of the public workshop held on December 9, 1999, and public comments in the Freedom of Information Reading Room (Room No. 1E-190) at the U.S. Department of Energy, Forrestal Building, 1000 Independence Avenue, SW, Washington, DC, between the hours of 9:00 a.m. and 4:00 p.m., Monday through Friday, except Federal holidays.

The latest information regarding central air conditioner and heat pump rulemaking is available on the Building Research and Standards web site at the following address: http://www.eren.doe.gov/buildings/codes_ standards/applbrf/central_air_conditioner.html

FOR FURTHER INFORMATION CONTACT: Dr. Michael E. McCabe, U.S. Department of Energy, Office of Energy Efficiency and Renewable Energy, Forrestal Building, Mail Station EE-41, 1000 Independence Avenue, SW, Washington, D.C. 20585-0121, (202) 586-0854, E-mail: Michael.E.McCabe@ee.doe.gov.

Edward Levy, Esq., U.S. Department of Energy, Office of General Counsel, Forrestal Building, Mail Station GC-72, 1000 Independence Avenue, SW, Washington, D.C. 20585, (202) 586-9507, E-mail: Edward.Levy@hq.doe.gov.

SUPPLEMENTARY INFORMATION: The Department published a Supplemental Advance Notice of Proposed Rulemaking on November 24, 1999, entitled “Energy Conservation Program for Consumer Products: Energy Conservation Standards for Central Air Conditioners and Heat Pumps.” The notice announced a 75-day comment period, ending on February 7, 2000. At the December public workshop on the ANOPR, it was recommended the Department conduct additional analysis to examine the sensitivity of the Life Cycle Cost (LCC) results to a number of the underlying assumptions. DOE performed some of the requested sensitivity analyses and, on January 14, 2000, e-mailed the results to all workshop attendees who had provided an e-mail address. On January 20, 2000, the Department posted the results of the supplemental LCC sensitivity analysis to the DOE web site identified above under ADDRESSES.

In a letter dated January 28, 2000, ARI requested an extension of the comment period in order to allow members to evaluate the supplemental information and to respond to the Department's request for comments. In addition, the CEC also requested an extension of the comment period.

Because interested parties need adequate time to review the recently released LCC sensitivity analyses, we are re-opening the comment period until Monday, February 28, 2000. For those parties that plan to submit comments during this period, we ask that they make known to us the extent and nature of their comments they intend to submit, by either phone or E-mail to the address above, as soon as possible. This will enable us to plan for any additional data collection or analyses which may be necessary to resolve the comments. We hope that this re-opening will permit a more comprehensive review and commentary preparation for the supplemental LCC sensitivity results.

Issued in Washington, DC, on February 11, 2000.
David J. Leiter,
Principal Deputy Assistant Secretary, Energy Efficiency and Renewable Energy.

[FR Doc. 00-3839 Filed 2-16-00; 8:45 am]

BILLING CODE 6450-01-P